SECURITIES AND EXCHANGE COMMISSION

Proposed Collection; Comment Request

Upon Written Request, Copies Available From: Securities and Exchange Commission, Office of FOIA Services, 100 F Street NE., Washington, DC 20549-2736.

Extension:

Voluntary XBRL-Related Documents, SEC File No. 270-550, OMB Control No. 3235-0611.

Notice is hereby given that, pursuant to the Paperwork Reduction Act of 1995 (44 U.S.C. 3501 et seq.) (“Paperwork Reduction Act”), the Securities and Exchange Commission (the “Commission”) is soliciting comments on the collection of information summarized below. The Commission plans to submit this existing collection of information to the Office of Management and Budget (“OMB”) for extension and approval.

As part of our evaluation of the potential of interactive data tagging technology, the Commission permits registered investment companies (“funds”) to submit on a voluntary basis specified financial statement and portfolio holdings disclosure tagged in eXtensible Business Reporting Language (“XBRL”) format as an exhibit to certain filings on the Commission's Electronic Data Gathering, Analysis and Retrieval System (“EDGAR”). The current voluntary program permits any fund to participate merely by submitting a tagged exhibit in the required manner. These exhibits are publicly available but are considered furnished rather than filed. The purpose of the collection of information is to help evaluate the usefulness of data tagging and XBRL to registrants, investors, the Commission, and the marketplace.

We estimate that no funds participate in the voluntary program each year. This information collection, therefore, imposes no hour burden; however, we are requesting a burden of one hour for administrative purposes. We also estimate that the information collection imposes no cost burden.

Estimates of average burden hours and costs are made solely for the purposes of the Paperwork Reduction Act and are not derived from a comprehensive or even representative survey or study of the costs of Commission rules and forms. Participation in the program is voluntary. Submissions under the program will not be kept confidential. An agency may not conduct or sponsor, and a person is not required to respond to, a collection of information unless it displays a currently valid OMB control number.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Pamela Dyson, Director/Chief Information Officer, Securities and Exchange Commission, C/O Remi Pavlik-Simon, 100 F Street NE., Washington, DC 20549; or send an email to: PRA_Mailbox@sec.gov.

Dated: June 16, 2015.
Brent J. Fields,
Secretary.

[FR Doc. 2015-15176 Filed 6-19-15; 8:45 am]

BILLING CODE 8011-01-P